DEPARTMENT OF COMMERCE

National Oceanic and Atmospheric Administration

[RTID 0648-XC867]

Caribbean Fishery Management Council; Public Meeting

AGENCY: National Marine Fisheries Service (NMFS), National Oceanic and Atmospheric Administration (NOAA), Commerce.

ACTION: Notice of public hybrid meeting (in-person/virtual hybrid).

SUMMARY: The Caribbean Fishery Management Council (CFMC) will hold the 181st public hybrid meeting to address the items contained in the tentative agenda included in the SUPPLEMENTARY INFORMATION.

DATES: The 181st CFMC public hybrid meeting will be held on April 18, 2023, from 9 a.m. to 5 p.m., and on April 19, 2023, from 9 a.m. to 4:45 p.m., AST.

ADDRESSES: The meeting will be held at the Hilton Ponce Golf and Casino Resort, 1150 Caribe Avenue, Ponce, Puerto Rico 00716.

You may join the 181st CFMC public hybrid meeting via Zoom, from a computer, tablet or smartphone by entering the following address:

Join Zoom Meeting: https://us02web.zoom.us/j/83060685915?pwd=VmVsc1orSUtKck8xYk1XOXNDY1ErZz09

Meeting ID: 830 6068 5915

Passcode: 995658

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915

Passcode: 995658

In case there are problems and we cannot reconnect via Zoom, the meeting will continue using GoToMeeting.

You can join the meeting from your computer, tablet or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

April 18, 2023

9 a.m.-9:45 a.m.

—Call to Order

—Roll Call

—Adoption of Agenda

—Consideration of 180th Council Meeting Verbatim Transcription

—Executive Director's Report

—Update on Western Central Atlantic Fishery Commission Spawning Aggregation and Queen Conch Working Group meetings—Laura Cimo, NOAA Fisheries

9:45 a.m.-10 a.m.

—Update on Amendments to the Island-based Fishery Management Plans—María López-Mercer, NOAA Fisheries

10 a.m.-10:45 a.m.

—2023 Accountability Measures Discussion—Andrew Strelcheck, NOAA Fisheries

10:45 a.m.-11 a.m.

—Break

11 a.m.-12 p.m.

—Review Draft Trawl, Net Gear and Descending Devices Amendment—María López-Mercer, NOAA Fisheries

12 p.m.-1 p.m.

—Lunch

1 p.m.-1:45 p.m.

—Review Draft Framework Amendment 2 to Update to the Spiny Lobster Overfishing Limit, Acceptable Biological Catch, and Annual Catch Limit Based on SEDAR 57 Update Assessment—Sarah Stephenson, NOAA Fisheries

1:45 p.m.-2:15 p.m.

—Scientific and Statistical Committee Report—Chair

—Ecosystem-Based Fisheries Management Technical Advisory Panel Report—Sennai Habtes, Chair

2:15 p.m.-3 p.m. (15 Minutes Each)

—District Advisory Panel Reports

—St. Thomas, USVI—Julian Magras, Chair

—St. Croix, USVI—Gerson Martinez, Chair

—Puerto Rico—Nelson Crespo, Chair

3 p.m.-3:15 p.m.

—Break

3:15 p.m.-4:15 p.m.

—Review Draft Amendment 3 to the St. Croix and St. Thomas/St. John Fishery Management Plans to Develop Management Measures for Dolphin and Wahoo—Sarah Stephenson, NOAA Fisheries

4:15 p.m.-4:45 p.m.

—Protected Resources Update—Island-Based FMPs Biological Opinion—Jennifer Lee, NOAA Fisheries

4:45 p.m.-5 p.m.

—Public Comment Period (5-minute presentations)

—Adjourn for the day

5:15 p.m.

—Closed Session

April 19, 2023

9 a.m.-9:30 a.m.

—CFMC Best Practices Discussion—Katharine Zamboni, NOAA General Counsel

9:30 a.m.-10:30 a.m.

—Southeast Fishery Science Center Updates—Kevin McCarthy, NOAA Fisheries

10:30 a.m.-10:45 a.m.

—Break

10:45 a.m.-11:15 a.m.

—NOAA Fisheries' Equity and Environmental Justice (EEJ) Strategy, Regional Implementation Process, and Schedule—Andrew Strelcheck, NOAA Fisheries

11:15 a.m.-11:45 a.m.

—Outreach and Education Report—Alida Ortiz, Chair

11:45 a.m.-12 p.m.

—Social Media Report—Cristina Olan

12 p.m.-1:30 p.m.

—Lunch Break

1:30 p.m.-2 p.m.

—Application of CFMC Queen Conch Training Modules in a European Union/FAO Funded Pilot Program to Improve Queen Conch Landings in Jamaica—Nelson Ehrhardt

2 p.m.-2:30 p.m.

—Development of Educational Resources on the Shark Species (Infraclass: Selachii) of Puerto Rico as Tools to Inform the General Public—Wanda Ortiz

2:30 p.m.-3 p.m.

—Liaison Officers Reports (10 minutes each)

—St. Croix, USVI—Mabel Maldonado

—St. Thomas/St. John, USVI—Nicole Greaux

—Puerto Rico—Wilson Santiago

3 p.m.-3:15 p.m.

—Break

3:15 p.m.-3:45 p.m.

—Enforcement Reports (10 minutes each)

—Puerto Rico—Department of Natural and Environmental Resources

—USVI—Department of Planning and Natural Resources

—U.S. Coast Guard

—NOAA's Office of Law Enforcement

3:45 p.m.-4:15 p.m.

—Other Business

4:15 p.m.-4:45 p.m.

—Public Comment Period (5-minute presentations)

—Next Meeting

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on April 18, 2023, at 9 a.m. AST, and will end on April 19, 2023 at 4:45 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico 00918-1903; telephone: (787) 226-8849.

Authority: 16 U.S.C. 1801 et seq.

Dated: March 21, 2023.
Rey Israel Marquez,
Acting Deputy Director, Office of Sustainable Fisheries, National Marine Fisheries Service.

[FR Doc. 2023-06159 Filed 3-23-23; 8:45 am]

BILLING CODE 3510-22-P